DEPARTMENT OF COMMERCE

Economic Development Administration

Notice of Petitions by Producing Firms for Determination of Eligibility To Apply for Trade Adjustment Assistance

AGENCY: Economic Development Administration (EDA).

ACTION: To give all interested parties an opportunity to comment.

Petitions have been accepted for filing on the dates indicated from the firms listed below.

List of Petition Action by Trade Adjustment Assistance for Period September 14, 2004-November 19, 2004
Firm name | Address | Date petition accepted | Product
Hart Associates, Inc | 2900 McDonald Avenue Ruston, LA 71270 | 14-Sep-04 | Brass lamps.
Etron, Inc | 1410 Peruville Road, Freeville, NY 14852 | 20-Oct-04 | Microcomputer programmable controllers used as variable speed vacuum controllers and drives.
Pallet Services, Inc | 7422 Wards Road, Lynchburg, VA 24506 | 04-Nov-04 | Wood pallets and boxes.
Aromaland, Inc | 1326 Rufina Circle, Santa Fe, NM 87507 | 05-Nov-04 | Preparations for use on the hair and skin.
McAllister Tool & Machine, Inc | 3410 6th Avenue, Huntsville, AL 35805 | 05-Nov-04 | Machined parts of aluminum and brass used in relief and check valves.
Ramcel Engineering Company | 2926 MacArthur Blvd., Northbrook, IL 60062 | 08-Nov-04 | Stamped metal components for office machines, automobiles, power tools and tooling for stamping and forming metal.
Gambit Corporation | 586 Martin Avenue, Rohnert Park, CA 94928 | 09-Nov-04 | Custom metal small precision stamping, i.e. fourslide parts, wire and strip metal formings, flat springs, clips, contacts, brackets, terminals, pins, probes, dot matrix, print wires.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice. The Catalog of Federal Domestic Assistance official program number and title of the program under which these petitions are submitted is 11.313, Trade Adjustment Assistance.

Dated: November 18, 2004.
Anthony J. Meyer,
Senior Program Analyst, Office of Strategic Initiatives.

[FR Doc. 04-26019 Filed 11-23-04; 8:45 am]

BILLING CODE 3510-24-P